DEPARTMENT OF LABOR

Office of the Secretary

Submission for OMB review; comment request

October 24, 2001.

The Department of Labor (DOL) has submitted the following public information collection requests (ICRs) to the Office of Management and Budget (OMB) for review and approval in accordance with the Paperwork Reduction Act of 1995 (Pub. L. 104-13, 44 U.S.C. Chapter 35). A copy this ICR, with applicable supporting documentation, may be obtained by calling the Department of Labor. To obtain documentation contact Darrin King at (202) 693-4129 or E-Mail: King-Darrin@dol.gov.

Comments should be sent to Office of Information and Regulatory Affairs, Attn: OMB Desk Officer for ETA, Office of Management and Budget, 725 17th Street, Room 10235, Washington, DC 20503 ((202) 395-7316), within 30 days from the date of this publication in the Federal Register.

The OMB is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Employment and Training Administration (ETA).

Type of Review: Extension of a currently approved collection.

Title: Internal Fraud Activities.

OMB Number: 1205-0187.

Affected Public: State, Local, or Tribal Government.

Frequency: Annually.

Type of Response: Reporting.

Number of Respondents: 53.

Number of Annual Responses: 53.

Estimated Time Per Respondent: 3 hours.

Total Burden Hours: 159.

Total Annualized Capital/Startup Costs: $0.

Total Annual Costs (operating/maintaining systems or purchasing services): $0.

Description: The form ETA-9000 is the data collection instrument used for identifying activities involving fraud and assessing fraud prevention effectiveness of State Employment Security Agencies (SESA). Resulting analysis is communicated to the SESA to enhance management efforts in controlling fraud.

Ira L. Mills,
Departmental Clearance Officer.

[FR Doc. 01-27807 Filed 11-5-01; 8:45 am]

BILLING CODE 4510-30-M